DEPARTMENT OF THE INTERIOR

National Park Service

Ocmulgee Old Fields Historic District; Determination of Eligibility for the National Register of Historic Places

ACTION: Discussion of previous determination of eligibility.

This is to advise that, on the basis of consideration of the comments received in response to the Federal Register notice dated November 5, 1999, as well as all other information collected by the National Park Service, including a visit to the site, the National Park Service has determined that it did not receive authoritative information which, evaluated in conjunction with documentation already on file, resulted in a finding that the boundary for the Ocmulgee Old Fields Historic District, in Bibb and Twiggs Counties, Georgia, as defined by the Keeper of the National Register of Historic Places on August 14, 1997, and July 23, 1999, does not accurately delineate the scope of the District in accordance with National Register standards. The determination of eligibility for the Ocmulgee Old Fields Historic District remains in effect.

Carol D. Shull,
Keeper of the National Register of Historic Places, National Register, History and Education.

[FR Doc. 00-7678 Filed 3-28-00; 8:45 am]

BILLING CODE 4310-70-P